DEPARTMENT OF LABOR

Employment and Training Administration

[TA-W-82,571]

Lexisnexis/Matthew Bender, a Reed Elsevier, Inc. Subsidiary, Not Including the Customer Service and Fulfillment Departments, Albany, New York; Amended Certification Regarding Eligibility To Apply for Worker Adjustment Assistance

In accordance with Section 223 of the Trade Act of 1974, as amended (“Act”), 19 U.S.C. 2273, the Department of Labor issued a Certification of Eligibility to Apply for Worker Adjustment Assistance on May 8, 2013, applicable to workers of LexisNexis/Matthew Bender, a Reed Elsevier, Inc. Subsidiary, not including the Customer Service and Fulfillment Departments, Albany, New York (“Lexis/Nexis”). The Department's notice of determination was published in the Federal Register on May 30, 2013 (78 FR 32466). The Customer Service and Fulfillment Departments of Lexis/Nexis are certified under TA-W-81,638A that expires on June 1, 2014.

At the request of workers, the Department reviewed the certification for workers of the subject firm. The workers are engaged in activities related to the supply of online legal research tools and solutions services.

A review of the certification under TA-W-82,571 revealed that the affirmative determination contained a technical error. The determination noted that the workers were “engaged in activities related to the supply of online legal research tools and solutions services, specifically finance activities (accounts receivable, general accounting, royalties, and credit collections) that support the firm's supply of online legal research tools and solutions services.” The determination should read, “engaged in activities related to the supply of online legal research tools and solutions services.” The determination should not have suggested that the certified worker group was limited beyond the specific exclusion of the Customer Service and Fulfillment Departments, which were already certified under TA-W-81,638A.

The intent of the Department is to include all workers impacted by the acquisition of services like or directly competitive from a foreign country.

The amended notice applicable to TA-W-82,571 is hereby issued as follows:

All workers of LexisNexis/Matthew Bender, a Reed Elsevier, Inc. Subsidiary, not including the Customer Service and Fulfillment Departments, Albany, New York engaged in activities related to the supply of online legal research tools and solutions services who became totally or partially separated from employment on or after March 18, 2012 through May 8, 2015, and all workers in the group threatened with total or partial separation from employment on the date of certification through two years from the date of certification, are eligible to apply for adjustment assistance under Chapter 2 of Title II of the Trade Act of 1974, as amended.

Signed in Washington, DC, this 9th day of April, 2014.
Michael W. Jaffe,
Certifying Officer, Office of Trade Adjustment Assistance.

[FR Doc. 2014-09751 Filed 4-28-14; 8:45 am]

BILLING CODE 4510-FN-P